COMMISSION ON CIVIL RIGHTS

Agenda and Notice of Public Meeting of the Colorado Advisory Committee

AGENCY: Commission on Civil Rights.

ACTION: Announcement of meeting.

SUMMARY: Notice is hereby given, pursuant to the provisions of the rules and regulations of the U.S. Commission on Civil Rights (Commission), and the Federal Advisory Committee Act (FACA) that a meeting of the Colorado Advisory Committee to the Commission will convene by conference call on Tuesday, September 22, 2020 at 12:30 p.m. The purpose of the meeting is to review an advisory memorandum regarding infant and maternal mortality.

DATES: Tuesday, September 22, 2020 at 12:30 p.m. (MDT).

Public Call-In Information: 1-800-353-6461; Conference ID: 3778939.

FOR FURTHER INFORMATION CONTACT: Barbara Delaviez, ero@usccr.gov or by phone at 202-539-8246.

SUPPLEMENTARY INFORMATION: Interested members of the public may listen to the discussion by calling the following toll-free conference call number: 1-800-353-6461; Conference ID: 3778939.

Please be advised that, before being placed into the conference call, the conference call operator will ask callers to provide their names, their organizational affiliations (if any), and email addresses (so that callers may be notified of future meetings). Callers can expect to incur charges for calls they initiate over wireless lines, and the Commission will not refund any incurred charges. Callers will incur no charge for calls they initiate over land-line connections to the toll-free telephone number provided.

Persons with hearing impairments may also follow the discussion by first calling the Federal Relay Service at 1-800-877-8339 and providing the operator with the toll-free conference call number: 1-800-353-6461; Conference ID: 3778939.

Members of the public are invited to make statements during the open comment period of the meeting or email written comments. Written comments may be emailed to Barbara Delaviez at ero@usccr.gov approximately 30 days after each scheduled meeting. Persons who desire additional information may also contact Barbara Delaviez at (202) 539-8246.

Records and documents discussed during the meeting will be available for public viewing as they become available at this FACA Link; click the “Meeting Details” and “Documents” links. Persons interested in the work of this advisory committee are advised to go to the Commission's website, www.usccr.gov, or to contact Evelyn Bohor at the above phone number or email address.

Agenda

Tuesday, September 22, 2020 at 12:30 p.m. (MDT)

I. Roll Call

II. Review Advisory Memorandum Regarding Infant and Maternal Mortality

III. Next Steps

IV. Other Business

V. Open Comment

VI. Adjournment

Dated: September 4, 2020.
David Mussatt,
Supervisory Chief, Regional Programs Unit.

[FR Doc. 2020-19975 Filed 9-9-20; 8:45 am]

BILLING CODE P